DEPARTMENT OF TRANSPORTATION

Federal Aviation Administration

RTCA Special Committee 199: Airport Security Access Control Systems

AGENCY: Federal Aviation Administration (FAA), DOT.

ACTION: Notice of RTCA Special Committee 199 meeting.

SUMMARY: The FAA is issuing this notice to advise the public of a meeting of RTCA Special Committee 199: Airport Security Access Control Systems.

DATES: The meeting will be held on November 8, 2001 starting at 9:00 am.

ADDRESSES: The meeting will be held at RTCA, Inc., 1828 L Street, NW, Suite 805, Washington, DC 20036.

FOR FURTHER INFORMATION CONTACT: RTCA Secretariat, 1828 L Street, NW, Suite 805, Washington, DC, 20036; telephone (202) 833-9339; fax (202) 833-9434; web site http://www.ftca.org.

SUPPLEMENTARY INFORMATION: Pursuant to section 10(a)(2) of the Federal Advisory Committee Act (P.L. 92-463, 5 U.S.C., Appendix 2), notice is hereby given for a Special Committee 199 meeting. The agenda will include:

• November 8:

• Opening Session (Welcome, Introductory and Administrative Remarks, Agenda Overview, Review Minutes of Previous Meeting)

• Workgroups Reports and Discussions on Submitted Changes and Edits (Sections 1-4)

• Industry Presentations

• Other Action Items

• Closing Session (Establish Agenda for Next Meeting, Date and Place of Next Meeting)

Note: SC-199 is seeking to review vendor presentations of their products at this meeting. Each vendor seeking to present a short (10 to 15 min.) presentation should provide a briefing package to Mr. Paul S. Ruwaldt (paul.s.ruwaldt@tc.faa.gov) by November 1, 2001, outlining the following:

• How their product(s) would be utilized in an automated access control systems suitable under Federal Aviation Regulation (FAR) Parts 107 & 108,

• How their product(s) would provide for (or enhance) the security objectives of the airport and airline, and

• How their product(s) would be integrated into the airline and airport comprehensive security system.

It is strongly suggested that the vendors requesting presentation time be fully cognizant of the airline and airport operational requirements as they apply to automated access control systems, as well as the performance requirements such a system will impose on the discrete components of the automated access control systems. Further, it is suggested that the vendor be fully aware of how these operational and performance conditions will affect their product(s) and the access control procedures.

The vendor presentation must strictly be pertinent to their product(s) and the FAR Part 107 & 108 requirements for automated access control systems. The vendor must demonstrate their product's suitability to airline and airport operational access control conditions and illustrate how their product(s) would be deployed in an automated access control systems and/or how their product(s) can be integrated into the automated access control systems.

The committee emphasizes that this RTCA standard pertains only to access control systems, although there may be opportunities for future integration with other airport information and/or communication technologies. Further, the committee is interested in proven and available Commercial-Off-The-Shelf (COTS) technologies, not untested developmental concepts or proprietary systems.

Attendance is open to the interested public but limited to space availability. With the approval of the chairmen, members of the public may present oral statements at the meeting. Persons wishing to present statements or obtain information should contact the person listed in the FOR FURTHER INFORMATION CONTACT section. Members of the public may present a written statement to the committee at any time.

Issued in Washington, DC, on October 16, 2001.
Janice L. Peters,
FAA Special Assistant, RTCA Advisory Committee.

[FR Doc. 01-26920 Filed 10-24-01; 8:45 am]

BILLING CODE 4910-13-M